DEPARTMENT OF HEALTH AND HUMAN SERVICES

Centers for Disease Control and Prevention

[60Day-07-07AV]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Academic Centers of Excellence on Youth Violence Prevention Program Information System—New—National Center for Injury Prevention and Control (NCIPC), Centers for Disease Control and Prevention (CDC).

Background and Brief Description

Eight Academic Centers of Excellence on Youth Violence Prevention (ACEs) and two Urban Partnerships—Academic Centers of Excellence on Youth Violence Prevention (U-PACEs) are currently funded through CDC to foster and promote a stable, visible, long term strategy to address the complex problem of youth violence. The centers work with community members and many educational, justice and social work partners to develop action plans, partnerships, and priorities to prevent youth violence in a local community.

In addition, one ACE Coordinating Center is funded to initiate, foster, and support coordinated efforts, including the development and dissemination of activities and products in youth violence research and practice, among the ACEs, UPACEs, and CDC. It also aims to facilitate increased collaboration among organizations working to prevent youth violence to support the sustainability of youth violence prevention programs.

The Academic Centers of Excellence on Youth Violence Prevention Program Information System will collect, in electronic format: (a) Data needed to measure progress toward, or achievement of, performance indicators and other outcomes and (b) information on Academic Centers of Excellence on Youth Violence Prevention that is currently being collected in various electronic and paper documents.

An Internet-based information system will allow CDC to monitor, and report on, ACE activities more efficiently. Data reported to CDC through the ACE information system will be used by CDC to identify training and technical assistance needs, monitor compliance with cooperative agreement requirements, evaluate the progress made in achieving center-specific goals, and obtain information needed to respond to Congressional and other inquiries regarding program activities and effectiveness.

There are no costs to respondents except their time to enter data into the Information System.

Estimated Annualized Burden Hours
Respondents | Number of respondents | Number of responses per respondents | Average burden per response (in hrs.) | Total burden (in hours)
Clerical | 11 | 2 | 320/60 | 117
Directors/PI | 11 | 2 | 120/60 | 44
Total | 22 |  |  | 161

Dated: April 5, 2007.
Joan F. Karr,
Acting Reports Clearance Officer, Centers for Disease Control and Prevention.

[FR Doc. E7-6824 Filed 4-10-07; 8:45 am]

BILLING CODE 4163-18-P